DEPARTMENT OF TRANSPORTATION

Office of the Secretary

[Docket No. DOT-OST-2015-0076]

Agency Information Collection Activities: Request for Comments; Clearance of a New Information Collection(s): U.S. Department of Transportation, Individual Complaint of Employment Discrimination Form

AGENCY: Office of the Secretary, U.S. Department of Transportation.

ACTION: Notice and request for comments.

SUMMARY: In accordance with the Paperwork Reduction Act of 1995, this notice announces that the U.S. Department of Transportation (DOT) will forward the Information Collection Request (ICR) abstracted below to the Office of Management and Budget (OMB) for renewal of a previously approved collection. The ICR describes the nature of the information collection and its expected cost and burden hours. The OMB approved the form in 2017 with its renewal required by January 31, 2020.

DATES: Comments on this notice must be received by December 31, 2019.

ADDRESSES: You may submit comments [identified by Docket No. DOT-OST-2015-0076] by any of the following methods:

Fax: 202-493-2064.

Mail: Docket Management Facility, U.S. Department of Transportation, 1200 New Jersey Avenue SE, West Building, Room W12-140, Washington, DC 20590.

Hand Delivery: Docket Management Facility, U.S. Department of Transportation, 1200 New Jersey Avenue SE, West Building, Room W12-140, Washington, DC 20590, between 9 a.m. and 5 p.m., Monday through Friday, except on Federal holidays.

Federal eRulemaking Portal: http://www.regulations.gov. Follow the online instructions for submitting comments.

Instructions: All submissions must include the Agency name (Office of the Secretary, DOT) and docket number for this rulemaking. You should provide two copies of your comments if you submit them by mail or hand delivery. Note that all comments received will be posted without change to www.regulations.gov, including any personal information provided, and will be available to internet users. You may review DOT's complete Privacy Act Statement in the Federal Register published on April 11, 2000 (65 FR 19477) or you may visit http://DocketsInfo.dot.gov.

Docket: For internet access to the docket to read background documents and comments received, go to www.regulations.gov. Background documents and comments received may also be viewed at DOT, 1200 New Jersey Avenue SE, Docket Operations, West Building, Room W12-140, Washington, DC 25090, between 9 a.m. and 5 p.m., Monday through Friday, except Federal holidays.

FOR FURTHER INFORMATION CONTACT: Beverly Onwubere, Associate Director, EEO Complaints and Investigations Division (S-34), U.S. Department of Transportation, Departmental Office of Civil Rights, W78-316, 1200 New Jersey Avenue SE, Washington, DC 20590, 202-366-5988 (office), beverly.onwubere@dot.gov.

SUPPLEMENTARY INFORMATION:

OMB Control Number: 2105-0556.

Title: Individual Compliant of Employment Discrimination Form.

Form Numbers: DOT-F 1050-8.

Type of Review: Extension of a Previously Approved Collection.

Abstract: The DOT will utilize the form to collect information necessary to process EEO discrimination complaints filed by individuals who are Federal employees, former employees or applicants for employment with the Department. These complaints are processed in accordance with the U.S. Equal Employment Opportunity Commission's regulations, Title 29, Code of Federal Regulations, Part 1614, as amended. The DOT will use the form to: (a) Request requisite information from the applicant for processing his/her EEO discrimination complaint; and (b) obtain information to identify an individual or his or her attorney or other representative, if appropriate. An applicant's filing of an EEO discrimination complaint is solely voluntary. The DOT estimates that it takes an applicant approximately one hour to complete the form.

Respondents: Federal employees, former employees or applicants for employment with the Department.

Estimated Number of Respondents: 100 per year.

Estimated Total Burden on Respondents: 100 hours per year.

Comments Are Invited on: (a) Whether the proposed collection of information is reasonable for the proper performance of the EEO functions of the Department, and (b) the accuracy of the Department's estimate of the burden of the proposed information collection. All responses to the notice will be summarized and included in the request for OMB approval. All comments will also become a matter of public record.

Issued in Washington, DC, on October 23, 2019.
Beverly Onwubere,
Associate Director, EEO Complaints and Investigations Division Departmental Office of Civil Rights, U.S. Department of Transportation.

[FR Doc. 2019-23882 Filed 10-31-19; 8:45 am]

BILLING CODE 4910-9X-P